DEPARTMENT OF DEFENSE

Department of the Air Force

Notice of Intent To Prepare an Environmental Impact Statement and Noise of Cancellation of Scoping Meetings for Proposed Mortar and Artillery Training at Richardson Training Area, Joint Base Elmendorf-Richardson, AK

AGENCY: Department of the Air Force, Department of Defense.

ACTION: Amended Notice of Intent.

SUMMARY: The U.S. Air Force (USAF) and the U.S. Army, acting as a Cooperating Agency, are issuing this Amended Notice of Intent, updating the original notice published on March 16, 2020 (Federal Register, Vol. 85., No. 51, 14928) of their continuing intent to prepare an Environmental Impact Statement (EIS) to assess the potential social, economic, and environmental impacts associated with modifying the conditions under which indirect live-fire weapons training can be conducted at Joint Base Elmendorf-Richardson (JBER), in order to meet Army training standards at home station. However, as a direct result of the National Emergency declared by the President on Friday, March 13, 2020, in response to the coronavirus (COVID-19) pandemic in the United States and the Center for Disease Control's recommendations for social distancing and avoiding large public gatherings, the Air Force is now canceling the two public scoping meetings between April 13, 2020 and April 14, 2020. In lieu of the public scoping meetings, the Air Force will use the alternative means set forth below to inform the public and stakeholders and to obtain input for scoping the proposed action.

ADDRESSES: In lieu of scoping meetings, information on the proposal will be available on the project website at: https://JBER-PMART-EIS.com. For those who do not have ready access to a computer or the internet, the scoping-related materials posted to the website will be made available upon request by mail. Inquiries, requests for scoping-related materials, and comments regarding the Proposed Mortar and Artillery Training at Richardson Training Area Environmental Impact Statement (EIS) at Joint Base Elmendorf-Richardson (JBER), AK may be submitted by mail to JBER Public Affairs, JBER.PA@US.AF.MIL, (907) 552-8151; (US Post Office) JBER Public Affairs c/o Matthew Beattie, 10480 Sijan Ave., Suite 123, Joint Base Elmendorf-Richardson, AK 99506.

Written scoping comments will be accepted at any time during the environmental impact analysis process up until the public release of the Draft EIS. However, to ensure the USAF has sufficient time to consider public input in the preparation of the Draft EIS, scoping comments should be submitted to the website or the address listed above by no later than May 11, 2020.

SUPPLEMENTARY INFORMATION: The EIS will evaluate the potential impacts associated with the proposed action, which includes indirect live-fire training during all-seasons at Eagle River Flats (ERF) Impact Area on JBER, a military base in Alaska, in order to meet Army training standards. The proposed action also includes expansion of ERF impact area by approximately 585 acres. In addition, the EIS will evaluate an action alternative that would marginally meet Army training standards, and would not include expansion of the ERF impact area. The no action alternative will also be evaluated in the EIS, under which the Army would continue to train with the existing seasonal restrictions and which would require JBER home station units to deploy to other Army-controlled training lands to conduct required training. The USAF is the National Environmental Policy Act (NEPA) lead agency and the U.S. Army is a cooperating agency for this EIS process. A Notice of Intent for a similar action was issued in 2007; however, this Notice of Intent supersedes the Notice of Intent that was issued in 2007.

Additional review and consultation which will be incorporated into the preparation of the Draft EIS will include, but are not necessarily limited to consultation under Section 7 of the Endangered Species Act and consultation under Section 106 of the National Historic Preservation Act.

The proposed actions at JBER have the potential to be located in a floodplain and/or wetland. Consistent with the requirements and objectives of Executive Order (E.O.) 11990, “Protection of Wetlands,” and E.O. 11988, “Floodplain Management,” state and federal regulatory agencies with special expertise in wetlands and floodplains will be contacted to request comment. Consistent with E.O. 11988 and E.O. 11990, this Notice of Intent initiates early public review of the proposed actions and alternatives, which have the potential to be located in a floodplain and/or wetland.

Scoping and Agency Coordination: To define the full range of issues to be evaluated in the EIS, the USAF will determine the scope of the analysis by soliciting comments from interested local, state, and federal elected officials and agencies, Alaska Native organizations, as well as interested members of the public and others. This is being done by providing a website where the public can submit comments and/or by having comments mailed to the mailing address provided above.

Adriane Paris,
Acting Air Force Federal Register Liaison Officer.

[FR Doc. 2020-06741 Filed 3-31-20; 8:45 am]

BILLING CODE 5001-10-P